DEPARTMENT OF TRANSPORTATION

Federal Aviation Administration

14 CFR Part 39

[Docket No. FAA-2011-0127; Directorate Identifier 2010-CE-065-AD; Amendment 39-16681; AD 2011-09-19]

RIN 2120-AA64

Airworthiness Directives; BURKHART GROB LUFT-UND Model G 103 C Twin III SL Gliders

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

The in-flight loss of a propeller and pulley wheel from the engine of a Grob G 103 C Twin III SL powered sailplane has been reported.

Grob Aircraft AG suspects that the possible reasons for this loss can be due to an incorrect propeller track (the play at the propeller tip) and/or to a damaged propeller nut securing plate.

Those conditions, if not corrected, could also result in loosening of parts and, consequently could result in damage to the sailplane and possible injury to persons on the ground.

We are issuing this AD to require actions to correct the unsafe condition on these products.

DATES: This AD becomes effective June 15, 2011.

On June 15, 2011, the Director of the Federal Register approved the incorporation by reference of certain publications listed in this AD.

ADDRESSES: You may examine the AD docket on the Internet at http://www.regulations.gov or in person at Document Management Facility, U.S. Department of Transportation, Docket Operations, M-30, West Building Ground Floor, Room W12-140, 1200 New Jersey Avenue, SE., Washington, DC 20590.

For service information identified in this AD, contact GROB Aircraft AG, Lettenbachstrasse 9, 86874 Tussenhausen-Mattsies, Head of Customer Service and Support, Germany; telephone: +49 (0) 8268-998-139; fax: +49 (0) 8268-998-200; e-mail productsupport@grob-aircraft.com; Internet: http://www.grob-aircraft.eu. You may review copies of the referenced service information at the FAA, Small Airplane Directorate, 901 Locust, Kansas City, Missouri 64106. For information on the availability of this material at the FAA, call (816) 329-4148.

FOR FURTHER INFORMATION CONTACT: Jim Rutherford, Aerospace Engineer, FAA, Small Airplane Directorate, 901 Locust, Room 301, Kansas City, Missouri 64106; telephone: (816) 329-4165; fax: (816) 329-4090.

SUPPLEMENTARY INFORMATION:

Discussion

We issued a notice of proposed rulemaking (NPRM) to amend 14 CFR part 39 to include an AD that would apply to the specified products. That NPRM was published in the Federal Register on February 18, 2011 (76 FR 9513). That NPRM proposed to correct an unsafe condition for the specified products. The MCAI states:

The in-flight loss of a propeller and pulley wheel from the engine of a Grob G 103 C Twin III SL powered sailplane has been reported.

Grob Aircraft AG suspects that the possible reasons for this loss can be due to an incorrect propeller track (the play at the propeller tip) and/or to a damaged propeller nut securing plate.

Those conditions, if not corrected, could also result in loosening of parts and, consequently could result in damage to the sailplane and possible injury to persons on the ground.

For the reasons stated above, this AD requires to inspect the propeller assembly attachment, to verify that the propeller track is within the allowable tolerances and, depending on findings, to accomplish the relevant corrective actions.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 4 products of U.S. registry. We also estimate that it would take about 2 work-hours per product to comply with the basic requirements of this AD. The average labor rate is $85 per work-hour.

Based on these figures, we estimate the cost of this AD on U.S. operators to be $680, or $170 per product.

In addition, we estimate that any necessary follow-on actions would take about 6 work-hours and require parts costing $100, for a cost of $610 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-09-19 BURKHART GROB LUFT-UND: Amendment 39-16681; Docket No. FAA-2011-0127; Directorate Identifier 2010-CE-065-AD.

Effective Date

(a) This airworthiness directive (AD) becomes effective June 15, 2011.

Affected ADs

(b) None.

Applicability

(c) This AD applies to BURKHART GROB LUFT-UND G 103 C Twin III SL gliders, all serial numbers, certificated in any category.

Subject

(d) Air Transport Association of America (ATA) Code 61: Propellers/Propulsors.

Reason

(e) The mandatory continuing airworthiness information (MCAI) states:

The in-flight loss of a propeller and pulley wheel from the engine of a Grob G 103 C Twin III SL powered sailplane has been reported.

Grob Aircraft AG suspects that the possible reasons for this loss can be due to an incorrect propeller track (the play at the propeller tip) and/or to a damaged propeller nut securing plate.

Those conditions, if not corrected, could also result in loosening of parts and, consequently could result in damage to the sailplane and possible injury to persons on the ground.

For the reasons stated above, this AD requires to inspect the propeller assembly attachment, to verify that the propeller track is within the allowable tolerances and, depending on findings, to accomplish the relevant corrective actions.

Actions and Compliance

(f) Unless already done, within 30 days after the effective date of this AD, do the following actions:

(1) Update the glider documentation following Grob Aircraft Service Bulletin No. MSB-869-24/1, dated July 20, 2009, by inserting the following revised pages from Grob Aircraft AG:

(i) Into the Grob Aircraft AG G 103 C Twin III SL Pilot's Operating Handbook (POH) (dated December 1991): Pages 0.2A, 0.3, 0.4, and 4.9, Revision 6, dated July 20, 2009.

(ii) Into the Grob Aircraft AG G 103 C Twin III SL Maintenance Manual (dated December, 1991) or FAA-approved maintenance program: pages 0.1A, 0.2, 0.3, 4.2, and 6.6, Revision 10, dated December 15, 2006.

(2) Inspect for cracks at the bent area of the engaged tooth of the upper pulley wheel securing plate following the procedure to access the area found on page 6.12 of the Grob Aircraft AG G 103 C TWIN III SL Maintenance Manual, Date of Issue December, 1991, Revision 9, dated May 24, 2002, as specified in Grob Aircraft Service Letter SL 869-01, dated June 9, 2009.

(3) Verify that the propeller track (the play at the propeller tip) is within the allowable tolerances following the procedure on page 4.9 of the Grob Aircraft AG G 103 C TWIN III SL POH, Date of Issue December, 1991, Revision 6, dated July 20, 2009, as specified in Grob Aircraft Service Letter SL 869-01, dated June 9, 2009.

Note 1: The torque values and tolerances of the upper pulley wheel grooved nut have been standardized in the POH and maintenance manual.

(4) If the bent area of the engaged tooth of the upper pulley wheel securing plate has no crack found per the inspection of paragraph (f)(2) of this AD, but the propeller track value measured is not within the allowable tolerances per paragraph (f)(3) of this AD, before further flight, readjust the torque of the upper pulley wheel grooved nut using the updated aircraft technical documentation following the procedure on page 6.12 of the Grob Aircraft AG G 103 C TWIN III SL Maintenance Manual, Date of Issue December, 1991, Revision 9, dated May 24, 2002, as specified in Grob Aircraft Service Letter SL 869-01, dated June 9, 2009. Ensure accordingly that the propeller track is within the allowable tolerances following the procedure on page 4.9 of the Grob Aircraft AG G 103 C TWIN III SL POH, Date of Issue December, 1991, Revision 6, dated July 20, 2009, as specified in Grob Aircraft Service Letter SL 869-01, dated June 9, 2009. If the propeller track is out of the allowable tolerance, then contact GROB for further instructions.

(5) If any crack is found in the bent area of the engaged tooth of the upper pulley wheel securing plate per the inspection in paragraph (f)(2) of this AD, before further flight, do the following actions:

(i) Remove the upper pulley wheel grooved nut and then look at the securing plate to identify if other teeth are available to be bent to secure the grooved nut. Do not bend an already bent tooth. If all teeth of the securing plate are already bent, replace the securing plate with a serviceable one.

(ii) Screw back the upper pulley wheel grooved nut (and its securing plate) and tighten it, applying the torque following page 6.12 of the Grob Aircraft AG G 103 C TWIN III SL Maintenance Manual, Date of Issue December, 1991, Revision 9, dated May 24, 2002, as specified in Grob Aircraft Service Letter SL 869-01, dated June 9, 2009. Ensure accordingly that the propeller track is within the allowable tolerances following the procedure on page 4.9 of the Grob Aircraft AG G 103 C TWIN III SL POH, Date of Issue December, 1991, Revision 6, dated July 20, 2009, as specified in Grob Aircraft Service Letter SL 869-01, dated June 9, 2009. If the propeller track is out of the allowable tolerances, then contact GROB for further instructions.

FAA AD Differences

Note 2: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to Attn: Jim Rutherford, Aerospace Engineer, FAA, Small Airplane Directorate, 901 Locust, Room 301, Kansas City, Missouri 64106; telephone: (816) 329-4165; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a Federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

Related Information

(h) Refer to the following documents for related information:

(1) MCAI EASA AD No.: 2010-0107, dated June 11, 2010;

(2) Grob Aircraft Service Bulletin MSB 869-24/1, dated July 20, 2009;

(3) Grob Aircraft Service Letter SL-869-01, dated June 9, 2009;

(4) Grob Aircraft AG G 103 C Twin III SL Pilot's Operating Handbook (POH) (dated December 1991), pages 0.2A, 0.3, 0.4, and 4.9, Revision 6, dated July 20, 2009; and

(5) Grob Aircraft AG G 103 C Twin III SL Maintenance Manual (dated December 1991), page 6.12, Revision 9, dated May 24, 2002; and pages 0.1A, 0.2, 0.3, 4.2, and 6.6, Revision 10, dated December 15, 2006.

(i) For service information related to this AD, contact GROB Aircraft AG, Lettenbachstrasse 9, 86874 Tussenhausen-Mattsies, Head of Customer Service and Support, Germany; telephone: +49 (0) 8268-998-139; fax: +49 (0) 8268-998-200; e-mail productsupport@grob-aircraft.com; Internet: http://www.grob-aircraft.eu. You may review copies of the referenced service information at the FAA, Small Airplane Directorate, 901 Locust, Kansas City, Missouri 64106. For information on the availability of this material at the FAA, call 816-329-4148.

Material Incorporated by Reference

(i) You must use Grob Aircraft Service Bulletin No. MSB-869-24/1, dated July 20, 2009; Grob Aircraft Service Letter SL-869-01, dated June 9, 2009; Grob Aircraft AG G 103 C Twin III SL Pilot's Operating Handbook (POH) (dated December 1991), pages 0.2A, 0.3, 0.4, and 4.9, Revision 6, dated July 20, 2009; and Grob Aircraft AG G 103 C Twin III SL Maintenance Manual (dated December 1991), page 6.12, Revision 9, dated May 24, 2002; and pages 0.1A, 0.2, 0.3, 4.2, and 6.6, Revision 10, dated December 15, 2006; to do the actions required by this AD, unless the AD specifies otherwise.

(1) The Director of the Federal Register approved the incorporation by reference of this service information under 5 U.S.C. 552(a) and 1 CFR part 51.

(2) For service information identified in this AD, contact GROB Aircraft AG, Lettenbachstrasse 9, 86874 Tussenhausen-Mattsies, Head of Customer Service and Support, Germany; telephone: +49 (0) 8268-998-139; fax: +49 (0) 8268-998-200; e-mail productsupport@grob-aircraft.com; Internet: http://www.grob-aircraft.eu.

(3) You may review copies of the referenced service information at the FAA, Small Airplane Directorate, 901 Locust, Kansas City, Missouri 64106. For information on the availability of this material at the FAA, call (816) 329-4148.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on April 22, 2011.
John Colomy,
Acting Manager, Small Airplane Directorate, Aircraft Certification Service.

[FR Doc. 2011-10388 Filed 5-10-11; 8:45 am]

BILLING CODE 4910-13-P